DEPARTMENT OF JUSTICE

Drug Enforcement Administration

[Docket No. 1324]

Importer of Controlled Substances Application: AndersonBrecon dba PCI Pharma Services; Correction

AGENCY: Drug Enforcement Administration, Justice.

ACTION: Notice of correction.

SUMMARY: The Drug Enforcement Administration (DEA) published a document in the Federal Register on March 6, 2024, concerning an application for an Importer of Controlled Substances. The document request removal of Dimethyltrytamine.

SUPPLEMENTARY INFORMATION:

Correction

In the Federal Register on March 6, 2024, in FR Doc No: 89 FR 16029, FR No. 2024-04753, on pages 16029-16030 (2 pages), in the first column, remove the controlled substance Dimethltrytamine from the list to read as follows:

Controlled substance | Drug code | Schedule
Cocaine | 9041 | II
Methadone | 9250 | II

Marsha Ikner,
Acting Deputy Assistant Administrator.

[FR Doc. 2024-09785 Filed 5-3-24; 8:45 am]

BILLING CODE P